DEPARTMENT OF TRANSPORTATION

National Highway Traffic Safety Administration

49 CFR Part 501

[Docket No. NHTSA 02-12526; Notice 1]

Reorganization and Delegations of Authority

AGENCY: National Highway Traffic Safety Administration (NHTSA), Department of Transportation (DOT).

ACTION: Final rule.

SUMMARY: This document amends NHTSA's organizational structure, delegations of authority, and succession to Administrator. The amendments effectuate organizational changes that will enable NHTSA to achieve its mission more effectively and efficiently.

EFFECTIVE DATES: The amendments are effective July 1, 2002, except for the amendments set forth in amendatory instructions 5, 6, and 7, which are effective October 3, 2002.

FOR FURTHER INFORMATION CONTACT: You may contact John Womack at 202-366-9511.

SUPPLEMENTARY INFORMATION: This final rule amends the regulations on the organization, delegation of powers and duties within the National Highway Traffic Safety Administration (NHTSA), and amends the succession to the Administrator to conform to the new organizational structure. This final rule amends NHTSA's organizational structure to enable NHTSA to achieve its mission more effectively and efficiently.

These amendments relate solely to changes in the organizational structure and the placement of the delegations of authority for various functions within the agency. They have no substantive effect. Notice and the opportunity for comment are therefore not required under the Administrative Procedure Act, and the amendments are effective immediately upon publication in the Federal Register. In addition, these amendments are not subject to Executive Order 12866, the Department of Transportation's regulatory policies and procedures, or the provisions for Congressional review of final rules in Chapter 8 of Title 5, United States Code.

List of Subjects in 49 CFR Part 501

Authority delegations (Government agencies), Organization and functions (Government agencies).

In consideration of the foregoing, 49 CFR part 501 is amended as follows:

PART 501—[AMENDED]

1. The authority citation for part 501 continues to read as follows:

Authority: 49 U.S.C. 105 and 322; delegation of authority at 49 CFR 1.50.

Amendments Effective July 1, 2002

2. Section 501.3 is amended as follows:

a. Revise paragraph (a)(3);

b. Remove paragraphs (a)(4) and (a)(6);

c. Redesignate paragraphs (a)(5) and (a)(7) as new paragraphs (a)(4) and (a)(5), respectively;

d. Add new paragraph (a)(6); and

e. Revise paragraph (c).

The revisions and additions read as follows:

§ 501.3. Organization and general responsibilities.

* * * * *

(a) * * *

(3) Executive Director. As the principal advisor to the Administrator and Deputy Administrator, provides direction on internal management and mission support programs. Provides executive direction over the Senior Associate Administrators.

* * * * *

(6) Director, Intergovernmental Affairs. As the principal advisor to the Administrator and Deputy Administrator on all intergovernmental matters, including communications with Congress, communicates agency policy and coordinates with the Chief Counsel on legislative issues affecting the agency.

* * * * *

(c) Senior Associate Administrators—(1) Senior Associate Administrator for Policy and Operations. As the principal advisor to the Administrator and Deputy Administrator with regard to core administrative and support services, provides direction and internal management and mission support for such activities. Provides executive direction over the Associate Administrator for Advanced Research and Analysis, the Associate Administrator for Administration, the Associate Administrator for Planning, Evaluation and Budget, the Chief Information Officer and the Office of Communications and Consumer Information.

(2) Senior Associate Administrator for Vehicle Safety. As the principal advisor to the Administrator and Deputy Administrator with regard to rulemaking, enforcement and applied research, provides direction and internal management and mission support for such activities. Provides executive direction over the Associate Administrator for Rulemaking, the Associate Administrator for Enforcement, and the Associate Administrator for Applied Research.

(3) Senior Associate Administrator for Traffic Injury Control. As the principal advisor to the Administrator and Deputy Administrator with regard to programs to reduce traffic injury, provides direction and internal management and mission support for such activities. Provides executive direction over the Associate Administrator for Program Development and Delivery and the Associate Administrator for Injury Control Operations and Resources.

3. Section 501.4, Succession to Administrator, is revised to read as follows:

§ 501.4 Succession to Administrator.

The following officials, in the order indicated, shall act in accordance with the requirements of 5 U.S.C. 3346-3349 as Administrator of the National Highway Traffic Safety Administration, in the case of the absence or disability or in the case of a vacancy in the office of the Administrator, until a successor is appointed:

(a) Deputy Administrator;

(b) Executive Director;

(c) Chief Counsel;

(d) Senior Associate Administrator for Policy and Operations;

(e) Senior Associate Administrator for Vehicle Safety; and

(f) Senior Associate Administrator for Traffic Injury Control.

4. Section 501.8, Delegations, is amended by revising paragraphs (b), (e), (f), and (g), by removing paragraphs (h) through (k), and by redesignating paragraph (l) as new paragraph (h), to read as follows:

§ 501.8 Delegations.

* * * * *

(b) Executive Director. The Executive Director is delegated line authority for executive direction over the Senior Associate Administrators.

* * * * *

(e) Senior Associate Administrator for Policy and Operations. The Senior Associate Administrator for Policy and operations is delegated authority for executive direction of the Associate Administrator for Advanced Research and Analysis; the Associate Administrator for Administration; the Associate Administrator for Planning, Evaluation, and Budget; the Chief Information Officer; and the Director of Communications and Consumer Information. To carry out this direction, the Senior Associate Administrator for Policy and Operations is delegated authority, except for authority reserved to the Administrator, to direct the NHTSA planning and evaluation system in conjunction with Departmental requirement and planning goals; to coordinate the development of the Administrator's plans, policies, budget, and programs, and analyses of their expected impact, and their evaluation in terms of the degree of goal achievement; and to perform independent analyses of proposed Administration regulatory, grant, legislative, and program activities. Except for authority reserved to the Senior Associate Administrator for Vehicle Safety, the Senior Associate Administrator for Policy and Operations is delegated authority to develop and conduct research and development programs and projects necessary to support the purposes of Chapters 301, 323, 325, 327, 329, and 331 of title 49, United States Code, and Chapter 4 of title 23, United States Code, as amended, in coordination with the Senior Associate Administrator for Vehicle Safety and the Chief Counsel. The Senior Associate Administrator for Policy and Operations is also delegated authority to exercise procurement authority with respect to NHTSA requirements; administer and conduct NHTSA's personnel management activities; administer NHTSA financial management programs, including systems of funds control and accounts of all financial transactions; and conduct administrative management services in support of NHTSA missions and programs.

(f) Senior Associate Administrator for Vehicle Safety. The Senior Associate Administrator for Vehicle Safety is delegated authority for executive direction of the Associate Administrator for Rulemaking, the Associate Administrator for Enforcement and the Associate Administrator for Applied Research. The Senior Associate Administrator for Vehicle Safety exercises executive direction with respect to the setting of standards and regulations for motor vehicle safety, fuel economy, theft prevention, consumer information, and odometer fraud. To carry out this direction, the Senior Associate Administrator for Vehicle Safety is delegated authority, except for authority reserved to the Administrator or the Chief Counsel, to exercise the powers and perform the duties of the Administrator with respect to the setting of motor vehicle safety and theft prevention standards, average fuel economy standards, procedural regulations, and the development of consumer information and odometer fraud regulations authorized under Chapters 301, 323, 325, 327, 329, and 331 of title 49, United States Code. Except for authority reserved to the Senior Associate Administrator for Policy and Operations, the Senior Associate Administrator for Vehicle Safety is delegated authority to develop and conduct research and development programs and projects necessary to support the purposes of Chapters 301, 323, 325, 327, 329, and 331 of title 49, United States Code, and Chapter 4 of title 23, United States Code, as amended, in coordination with the appropriate Associate Administrators, and the Chief Counsel. The Senior Associate Administrator for Vehicle Safety is also delegated authority to respond to a manufacturer's petition for exemption from 49 U.S.C. Chapter 301's notification and remedy requirements in connection with a defect or noncompliance concerning labeling errors; extend comment periods (both self-initiated and in response to a petition for extension of time) for noncontroversial rulemakings; make technical amendments or corrections to a final rule; extend the effective date of a noncontroversial final rule; administer the NHTSA enforcement program for all laws, standards, and regulations pertinent to vehicle safety, fuel economy, theft prevention, damageability, consumer information and odometer fraud, authorized under Chapters 301, 323, 325, 327, 329, and 331 of title 49, United States Code; issue regulations relating to the importation of motor vehicles under sections 30141 through 30147 of title 49, United States Code; and grant and deny petitions for import eligibility determinations submitted to NHTSA by motor vehicle manufacturers and registered importers under 49 U.S.C. 30141.

(g) Senior Associate Administrator for Traffic Injury Control. The Senior Associate Administrator for Traffic Injury Control is delegated authority for executive direction of the Associate Administrator for Program Development and Delivery and the Associate Administrator for Injury Control Operations and Resources. To carry out this direction, the Senior Associate Administrator for Traffic Injury Control is delegated authority, except for authority reserved to the Administrator, over programs with respect to: Chapter 4 of title 23, United States Code, as amended; the authority vested by section 210(2) of the Clean Air Act, as amended (42 U.S.C. 7544(2)); the authority vested by 49 U.S.C. 20134(a), with respect to the laws administered by the Administrator pertaining to highway, traffic, and motor vehicle safety; the Act of July 14, 1960, as amended (23 U.S.C. 313 note) and 49 U.S.C. Chapter 303; the authority vested by section 157(g) of title 23, United States Code; the authority vested by sections 153, 154, 157(except paragraph (g)), 161, 163, and 164 of title 23, United States Code, with the concurrence of the Federal Highway Administrator; and secton 209 of the Surface Transportation Assistance Act of 1978 (23 U.S.C. 401 note) as delegated by the Secretary in § 501.2(i). The Senior Associate Administrator for Traffic Injury Control is also delegated authority to exercise the powers and perform the duties of the Administrator with respect to State and community highway safety programs under 23 U.S.C. 402, including approval and disapproval of State highway safety plans and final vouchers, in accordance with the procedural requirements of the Administration; to approve the awarding of alcohol incentive grants to the States under 23 U.S.C. 408 and drunk driving prevention grants under 23 U.S.C. 410, for years subsequent to the initial awarding of such grants by the Administrator; as appropriate for activities benefiting states and communities; and to implement 23 U.S.C. 403.

* * * * *

Amendments Effective October 3, 2002

§ 501.3 [Amended]

5. Effective October 3, 2002, § 501.3 is amended by removing and reserving paragraph (a)(3).

6. Effective October 3, 2002, § 501.4 is revised to read as follows:

§ 501.4 Succession to Administrator.

The following officials, in the order indicated, shall act in accordance with the requirements of 5 U.S.C. 3346-3349 as Administrator of the National Highway Traffic Safety Administration, in the case of the absence or disability or in the case of a vacancy in the office of the Administrator, until a successor is appointed:

(a) Deputy Administrator;

(b) Chief Counsel;

(c) Senior Associate Administrator for Policy and Operations;

(d) Senior Associate Administrator for Vehicle Safety; and

(e) Senior Associate Administrator for Traffic Injury Control.

§ 501.8 [Amended]

7. Effective October 3, 2002, § 501.8 is amended by removing and reserving paragraph (b).

Issued on June 26, 2002.
Jeffrey W. Runge,
Administrator.

[FR Doc. 02-16523 Filed 6-28-02; 8:45 am]

BILLING CODE 4910-59-P